DEPARTMENT OF THE TREASURY

Submission for OMB Review; Comment Request

February 23, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 2, 2001 to be assured of consideration.

Internal Revenue Service (IRS)

OMB Number: 1545-1036.

Form Number: IRS Form 8716.

Type of Review: Extension.

Title: Election to Have a Tax Year Other Than a Required Tax Year.

Description: Filed by partnerships, S Corporations, and personal service corporations, under section 444(a), to retain or to adopt a tax year that is not a required tax year. Service Centers accept Form 8716 and use the form information to assign master-file codes that allow the Center to accept the filer's tax returned filed for a tax year (fiscal year) that would not otherwise be acceptable.

Respondents: Business or other for-profit, Farms.

Estimated Number of Respondents/Recordkeepers: 40,000.

Estimated Burden Hours Per Respondent/Recordkeepers:

Recordkeeping | 2 hr., 37 min.
Learning about the law and the form | 1 hr., 12 min.
Preparing and sending the form to the IRS | 1 hr., 16 min.

Frequency of Response: Other (one-time).

Estimated Total Reporting/Recordkeeping Burden: 204,400 hours.

OMB Number: 1545-1219.

Form Number: IRS Form 8038-T.

Type of Review: Extension.

Title: Arbitrage Rebate and Penalty in Lieu of Arbitrage Rebate.

Description: Form 8038-T is used by issuers of tax exempt bonds to report and pay the arbitrage rebate and to elect and/or pay various penalties associated with arbitrage bonds. These issuer's include state and local governments.

Respondents: State, Local or Tribal Government.

Estimated Number of Respondents/Recordkeepers: 2,500.

Estimated Burden Hours Per Respondent/Recordkeeper:

Recordkeeping | 12 hr., 12 min.
Learning about the law or the form | 8 hr., 21 min.
Preparing, copying, assembling, and sending the form to the IRS | 8 hr., 54 min.

Frequency of Response: Other (at least once every five years).

Estimated Total Reporting/Recordkeeping Burden: 73,625 hours.

OMB Number: 1545-1569.

Form Number: IRS Form 8861.

Type of Review: Extension.

Title: Welfare-to-Work Credit.

Description: Section 51A of the Internal Revenue Code allows employers an income credit of 35% of the first $10,000 of first-year wages and 50% of the first $10,000 of second-year wages paid to long-term family assistance recipients. The credit is part of the general business credit.

Respondents: Business or other for-profit, farms.

Estimated Number of Respondents/Recordkeepers: 500.

Estimated Burden Hours Per Respondent/Recordkeeper:

Recordkeeping | 8 hr., 7 min.
Learning about the law or the form | 1 hr., 35 min.
Preparing and sending the form to the IRS | 1 hr., 48 min.

Frequency of Response: Annually.

Estimated Total Reporting/Recordkeeping Burden: 5,755 hours.

Estimated Total Reporting Burden: 8,000 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-5040 Filed 3-1-01; 8:45 am]

BILLING CODE 4830-01-U